COMMITTEE FOR PURCHASE FROM PEOPLE WHO ARE BLIND OR SEVERELY DISABLED

Procurement List; Proposed Additions and Deletion

AGENCY: Committee for Purchase From People Who Are Blind or Severely Disabled.

ACTION: Proposed additions to and deletion from procurement list.

SUMMARY: The Committee is proposing to add to the Procurement List commodities and services to be furnished by nonprofit agencies employing persons who are blind or have other severe disabilities, and to delete a service previously furnished by such agencies.

Comments Must Be Received on or Before: April 23, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services have been proposed for addition to Procurement List for production by the nonprofit agencies listed:

Commodities

Hat, Fleece 5.7 oz., Black

8415-00-NSH-0441

NPA: Peckham Vocational Industries, Inc. >Lansing, Michigan

Rag, Wiping

7920-00-148-9666

7920-00-205-1711

7920-00-205-3570

NPA: Bestwork Industries for the Blind, Inc., Runnemede, New Jersey

Services

Base Operating Services

Parks Reserve Forces Training Area, Dublin, California

NPA: Calidad Industries, Inc., Oakland, California

Hospital Housekeeping Services

Great Lakes Naval Hospital, Building 200H, Great Lakes, Illinois

NPA: Development Resources, Inc., San Antonio, Texas

Janitorial/Custodial, Federal Facilities Building, Cleveland-Hopkins International Airport, Cleveland, Ohio

NPA: Murray Ridge Production Center, Inc., Elyria, Ohio

Janitorial/Custodial, Naval Air Reserve Center, Minneapolis, Minnesota

NPA: AccessAbility, Inc., Minneapolis, Minnesota

Janitorial/Grounds Maintenance, Chet Holifield Federal Building, Laguna Niguel, CA

NPA: Goodwill Industries of Orange County, Santa Ana, California

Litigation Support Services

U.S. Department of Agriculture

The Animal and Plant Health Inspection Services

Agriculture Marketing Service

Minneapolis, Minnesota

NPA: Federal Dispute Resolution Center, Alexandria, Virginia

Deletion

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following service has been proposed for deletion from the Procurement List:

Service

Janitorial/Custodial, Marine Corps Air Station Commissary, El Toro, California

G. John Heyer,
General Counsel.

[FR Doc. 01-7307 Filed 3-22-01; 8:45 am]

BILLING CODE 6353-01-P